DEPARTMENT OF COMMERCE

National Oceanic and Atmospheric Administration

National Climate Assessment and Development Advisory Committee

AGENCY: Office of Oceanic and Atmospheric Research (OAR), National Oceanic and Atmospheric Administration (NOAA), Department of Commerce.

ACTION: Notice of Charter Renewal.

SUMMARY: The Department of Commerce's Chief Financial Officer and Assistant Secretary for Administration has renewed the charter for the NOAA Science Advisory Board (SAB) for a period of two years from the date of the filing of the charter with the appropriate U.S. Senate and House of Representatives oversight committees. The NOAA SAB is a federal advisory committee under the Federal Advisory Committee Act (Pub. L. 92-463).

DATES: The SAB Charter is renewed for two years from the date of the filing of the charter with the appropriate U.S. Senate and House of Representatives oversight committees.

FOR FURTHER INFORMATION CONTACT: Dr. Cynthia J. Decker, Executive Director and Designated Federal Officer, NOAA Science Advisory Board, NOAA, Rm. 11230, R/SAB, 1315 East-West Highway, Silver Spring, Maryland 20910. (Phone: 301-734-1156, Email: Cynthia.decker@noaa.gov); or visit the NOAA SAB Web site at http://www.sab.noaa.gov.

SUPPLEMENTARY INFORMATION: The renewal of the charter for this time period is critical to the success of NOAA.

Only one amendment was made to the charter.

Under Section 9, Estimated Number and Frequency of Meetings, language has been revised to state “The SAB will meet approximately three times each year in person if possible.” This reflects the need for the Board members to regularly gather together for their meetings but also allows room for those meetings to be fewer than three per year and virtual, if necessary. The SAB will continue to have ad hoc virtual meetings in between the in-person meetings as necessary.

Dated: _July 29, 2013.
Jason Donaldson,
Chief Financial Officer/Chief Financial Officer, Office of Oceanic and Atmospheric Research, National Oceanic and Atmospheric Administration.

[FR Doc. 2013-18653 Filed 8-1-13; 8:45 am]

BILLING CODE 3510-KD-P